DEPARTMENT OF COMMERCE

International Trade Administration; Certified Trade Mission Program: Application

ACTION: Proposed collection; comment request.

SUMMARY: The Department of Commerce, as part of its continuing effort to reduce paperwork and respondent burdens, invites the general public and other Federal agencies to take this opportunity to comment on the continuing information collections, as required by the Paperwork Reduction Act of 1995, Public Law 104-13 (44 U.S.C. 3506(c)(2)(A)).

DATES: Written comments must be submitted on or before April 25, 2005.

ADDRESSES: Direct all written comments to Diana Hynek, Departmental Paperwork Clearance Officer, Department of Commerce, Room 6625, 14th & Constitution Avenue, NW., Washington, DC 20230 or via the Internet at dHynek@doc.gov.

FOR FURTHER INFORMATION CONTACT: Request for additional information or copies of the information collection instrument and instructions should be directed to: Barbara Rawdon, U.S. & Foreign Commercial Service, Global Trade programs, Room 2111, 14th & Constitution Avenue, NW., Washington, DC 20230; Phone number: (202) 482-5281, and fax number: (202) 482-0950 (or via the Internet at barb.rawdon@mail.doc.gov).

SUPPLEMENTARY INFORMATION:

I. Abstract

Certified Trade Missions are overseas events that are planned, organized and led by both Federal and non-Federal government export promotion agencies such as industry trade associations, agencies of State and local governments, Congressional representatives, chambers of commerce, regional groups and other export-oriented groups. Certified Trade Mission Program Application form is the vehicle by which individual mission organizers apply, and if accepted agree, to participate in the Department of Commerces (DOC) trade promotion events program, recruit U.S. companies, identify the products or services they intend to sell or promote, and report on results. The collection of information is required for Commerce to properly assess the credentials of the missions and applicants.

II. Method of Collection

Form ITA 4127P is sent by request to U.S. export oriented organizations seeking DOC certification of their trade mission. Applicant firms complete the form and return it to the Department of Commerce.

III. Data

OMB Number: 0625-0215.

Form Number: ITA-4127P.

Type of Review: Regular submission.

Affected Public: Mission organizers applying to participate in trade missions facilitated but not led by Department of Commerce officials.

Estimated Number of Respondents: 60.

Estimated Time Per Response: 1 hour.

Estimated Total Annual Burden Hours: 60 hours.

Estimated Total Annual Costs: The estimated annual cost for this collection is $5,100.00 ($2,100.00 for respondents and $3,000.00 for the federal government).

IV. Request for Comments

Comments are invited on (a) whether the proposed collection of information is necessary for the proper performance of the functions of the agency, including whether the information shall have practical utility; (b) the accuracy of the agencys estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: February 18, 2005.
Madeleine Clayton,
Management Analyst, Office of the Chief Information Officer.

[FR Doc. E5-753 Filed 2-23-05; 8:45 am]

BILLING CODE 3510-FP-P